COMMITTEE FOR THE IMPLEMENTATION OF TEXTILE AGREEMENTS

Request for Public Comment on a Commercial Availability Request Under the U.S.-Bahrain Free Trade Agreement

AGENCY: Committee for the Implementation of Textile Agreements (CITA).

ACTION: Request for public comments concerning a request for modification of the U.S.-Bahrain Free Trade Agreement (USBFTA) rules of origin for certain knit and woven apparel made from certain knit and woven fabrics.

SUMMARY: The Government of the United States received a request from the Government of Bahrain, submitted on March 23, 2017, to initiate consultations under Article 3.2.3 of the USBFTA. The Government of Bahrain is requesting that the United States and Bahrain (“the Parties”) consider revising the rules of origin for certain knit and woven apparel to address availability of supply of certain knit and woven fabrics in the territories of the Parties. The President of the United States may proclaim a modification to the USBFTA rules of origin for textile and apparel products after the United States reaches an agreement with the Government of Bahrain on a modification under Article 3.2.5 of the USBFTA to address issues of availability of supply of fibers, yarns, or fabrics in the territories of the Parties. CITA hereby solicits public comments on this request, in particular with regard to whether certain knit and woven fabrics can be supplied by the U.S. domestic industry in commercial quantities in a timely manner.

DATES: Comments must be submitted by July 21, 2017 to the Chairman, Committee for the Implementation of Textile Agreements, Room 30003, United States Department of Commerce, Washington, DC 20230.

FOR FURTHER INFORMATION CONTACT: Homer Boyer, Office of Textiles and Apparel, U.S. Department of Commerce, (202) 482-5156.

SUPPLEMENTARY INFORMATION:

Authority: Section 202(j)(2)(B) of the United States-Bahrain Free Trade Agreement Implementation Act (19 U.S.C. 3805 note) (USBFTA Implementation Act); Executive Order 11651 of March 3, 1972, as amended.

Background: Article 3.2.3 of the USBFTA provides that, on the request of either Party, the Parties shall consult to consider whether the rules of origin applicable to a particular textile or apparel good should be revised to address issues of availability of supply of fibers, yarns, or fabrics in the territories of the Parties. In the consultations, pursuant to Article 3.2.4 of the USBFTA, each Party shall consider all data presented by the other Party that demonstrate substantial production in its territory of a particular fiber, yarn, or fabric. The Parties shall consider that there is substantial production if a Party demonstrates that its domestic producers are capable of supplying commercial quantities of the fiber, yarn, or fabric in a timely manner. The USBFTA Implementation Act provides the President with the authority to proclaim as part of the HTSUS, modifications to the USBFTA rules of origin set out in Annex 3-A of the USBFTA as are necessary to implement an agreement with Bahrain under Article 3.2.5 of the USBFTA, subject to the consultation and layover requirements of Section 104 of the USBFTA Implementation Act. See Section 202(j)(2)(B)(i) of the USBFTA Implementation Act. Executive Order 11651 established CITA to supervise the implementation of textile trade agreements and authorizes the Chairman of CITA to take actions or recommend that appropriate officials or agencies of the United States take actions necessary to implement textile trade agreements. 37 FR 4699 (March 4, 1972), reprinted as amended in 7 U.S.C. Sec. 1854 note. The Government of the United States received a request from the Government of Bahrain, submitted on March 23, 2017, requesting that the United States consider whether the USBFTA rule of origin for certain knit and woven apparel should be modified to allow the use of certain knit and woven fabrics that are not originating under the USBFTA. The fabrics subject to this request, according to the fabric number in the request and organized by specific apparel end-use, are:

Knit apparel classified in chapter 61 of the Harmonized Tariff Schedule of the United States (HTSUS):

Fabric 26: Knit pile, looped fabric, 90% polyester and 10% elastomeric suede, yarn count: Brushed P105xP50D+SP40D, weight 300 grams per meter squared (g/m2), width CW57”, classified in subheading 6001.22 of the HTSUS;

Fabric 27: Knit fabric of polyester (85-97%) and elastomeric (5-15%), classified in subheading 6004.10 of the HTSUS;

Fabric 28: Knit fabric of polyester (45-60%), cotton (35-50%) and elastomeric (5-12%), classified in subheading 6004.10 of the HTSUS;

Fabric 29: Knit fabric of rayon (59-75%), nylon (20-37%), and elastomeric (0-10%), classified in subheading 6006.42 of the HTSUS; and

Fabric 35: Knit fabric of polyester (68-78%), rayon (19-29%), and elastomeric (0-8%), classified in subheading 6006.32 of the HTSUS.

Woven apparel classified in chapter 62 of the HTSUS:

Fabric 15: Bleached or dyed satin weave or twill weave fabric of at least 60% lyocell and up to 40% nylon, polyester, or elastomeric, that does not meet the National Fire Protection Association (NFPA) 2112 or ASTM 1506 protective standards, classified in heading 5516 of the HTSUS;

Fabric 16: Woven seersucker fabric of cotton, classified in subheadings 5208.42, 5208.52 or 5209.41 of the HTSUS;

Fabric 17: Woven fabric of rayon (60-75%), nylon (30-35%), and elastomeric (1-5%), bleached, dyed, printed or of yarns of different colors, weighing 200-350 g/m², classified in subheadings 5516.91, 5516.92, 5516.93 or 5516.94 of the HTSUS;

Fabric 18: Woven fabric of rayon (50-84%), polyester (6-49%), and elastomeric (1-10%), weighing less than 225 g/m2, classified in headings 5408 or 5516 of the HTSUS;

Fabric 19: Woven fabric of polyester (50-65%), rayon (34-49%), and elastomeric (1-10%), weighing less than 225 g/m2, classified in headings 5407, 5512, or 5515 of the HTSUS;

Fabric 20: Woven fabric of polyester (51-65%) and rayon (35-49%), weighing less than 225 g/m2, classified in headings 5407, 5512, or 5515 of the HTSUS;

Fabric 21: 100% rayon woven fabric, classified in headings 5408 or 5516 of the HTSUS; and

Fabric 22: Woven jacquard fabric of rayon staple fiber, weighing 375 g/m2 or less, classified in subheadings 5516.13 or 5516.23 of the HTSUS.

Men's or boys' suits, ensembles, suit-type jackets, blazers, trousers, bib and brace overalls, breeches and shorts (other than swimwear), classified in heading 6203 of the HTSUS; and women's or girls' suits, ensembles, suit-type jackets, blazers, dresses, skirts, divided skirts, trousers, bib and brace overalls, breeches and shorts (other than swimwear), classified in heading 6204 of the HTSUS:

Fabric 1: Two-way stretch woven fabric of polyester (57-76%), rayon (18-37%), and elastomeric (1-11%), classified in subheading 5515.19 of the HTSUS;

Fabric 2: Dyed rayon blend herringbone twill fabric of rayon (65-75%) and polyester (25-35%), weighing more than 200 g/m ²,, classified in subheading 5516.92 of the HTSUS;

Fabric 3: Two-way stretch woven fabric of polyester (50-85%), viscose rayon (13-47%), and elastomeric (1-10%), classified in subheading 5515.11 of the HTSUS;

Fabric 4: One-way stretch woven fabric of polyester (50-85%), viscose rayon (13-47%), and elastomeric (1-10%), classified in subheading 5515.11 of the HTSUS;

Fabric 5: Woven fabric of polyester (60-90%), rayon (10-40%), and elastomeric (0-6%), classified in subheadings 5407.52, 5407.53, 5407.61, 5407.69, 5407.72, 5407.73, 5407.92, 5407.93, 5512.19, 5512.99, 5515.12, and 5515.19 of the HTSUS;

Fabric 6: Woven indigo dyed fabric of cotton (95-100%) and elastomeric (0-5%), classified in subheadings 5208.39.6090 and 5208.39.8090 of the HTSUS;

Fabric 7: Cotton corduroy woven fabric, classified in subheading 5801.22 of the HTSUS;

Fabric 8: Polyester corduroy woven fabric, classified in subheading 5801.32 of the HTSUS;

Fabric 9: Dyed sateen woven fabric of cotton (93%-100%) and elastomeric (0-7%), classified in subheading 5209.39.0020 of the HTSUS;

Fabric 10: Dobby weave fabric of cotton (93-99%) and elastomeric (1-7%), classified in subheading 5209.39.0080 of the HTSUS;

Fabric 11: Dobby weave fabric of 100% cotton, classified in subheading 5209.39 of the HTSUS;

Fabric 12: Woven fabric of spun modal rayon (50-95%), filament polyester (5-48%), and elastomeric (0-5%), classified in subheadings 5516.12, 5516.13, 5516.22 and 5516.23 of the HTSUS;

Fabric 13: Yarn-dyed woven fabric of lyocell staple fiber (55-85%) and cotton (15-45%), classified in subheadings 5516.13 and 5516.43 of the HTSUS;

Fabric 14: Woven fabric of rayon (67-80%), nylon (15-35%), and elastomeric (2-6%), classified in subheadings 5516.22, 5516.23 and 5516.24 of the HTSUS;

Fabric 23: Two-way stretch woven twill fabric of cotton (85-98%) and elastomeric (2-15%), classified in subheading 5209.32 of the HTSUS;

Fabric 24: Two-way stretch woven twill fabric of cotton (63-73%), polyester (20-30%), and elastomeric (2-12%), classified in subheading 5211.43 of the HTSUS;

Fabric 25: Woven twill fabric of cotton (77-87%), polyester (12-22%), and elastomeric (0-6%), classified in subheading 5211.43 of the HTSUS;

Fabric 30: Woven twill fabric of viscose rayon (51-61%), cotton (34-44%), and elastomeric (0-10%), classified in subheading 5516.42.0060 of the HTSUS;

Fabric 31: Two-way stretch woven twill fabric of cotton (47-57%), rayon (36-46%), and elastomeric (2-12%), classified in subheading 5211.32 of the HTSUS;

Fabric 32: Woven fabric of cotton (92-100%) and elastomeric (0-8%), classified in subheading 5209.31 of the HTSUS;

Fabric 33: Woven sateen fabric of 100% polyester, classified in subheading 5407.69 of the HTSUS; and

Fabric 34: Woven twill fabric of polyester (40-50%), viscose rayon (38-48%), linen (3-13%), and elastomeric (0-9%), classified in subheading 5515.11 of the HTSUS.

CITA is soliciting public comments regarding this request, particularly with respect to whether the fabrics described above can be supplied by the U.S. domestic industry in commercial quantities in a timely manner. Comments must be received no later than July 21, 2017.

Interested persons are invited to submit such comments or information electronically to OTEXA_Bahrain_FTA@trade.gov, and/or in hard copy to: Chairman, Committee for the Implementation of Textile Agreements, Room 30003, U.S. Department of Commerce, 14th and Constitution Avenue NW., Washington, DC 20230.

If comments include business confidential information, commenters must submit a business confidential version in hard copy to the Chairman of CITA, and also provide a public version,either in hard copy or electronically. CITA will protect any information that is marked business confidential from disclosure to the full extent permitted by law. All public versions of the comments will be posted on OTEXA's Web site for Commercial Availability proceedings under the Bahrain FTA: http://otexa.trade.gov/Bahrain_CA.htm.

Terry Labat,
Acting Chairman, Committee for the Implementation of Textile Agreements.

[FR Doc. 2017-10360 Filed 5-19-17; 8:45 am]

BILLING CODE 3510-DR-P